DEPARTMENT OF AGRICULTURE

Forest Service

Salmon Wild and Scenic River Management Plan

AGENCY: Forest Service, USDA.

ACTION: Notice of intent to prepare a Draft Supplemental Environmental Impact Statement.

SUMMARY: The Salmon-Challis National Forest, will prepare a Draft Supplemental Environmental Impact Statement (DSEIS) in order to make a new decision on the Salmon Wild and Scenic River Management Plan. On September 21, 2001, a Record of Decision (ROD) was signed that selected Alternative 4, which provided for temporary outfitter and guide use at the Stub Creek, Arctic Creek and Smith Gulch camps. It also required removal of all permanent structures and facilities at those three camps by December 31, 2002. During the appeal of that decision, the permittees brought forward additional economic information showing economic impacts to them associated with the December 31, 2002 removal date. This DSEIS will reevaluate impacts to permittees and consider a possible change of camp removal to a later date.

DATES: Written comments must be received on or before 45 days after the Notice of Availability is published in the Federal Register. The expected deadline for receipt of public comments will be approximately November 8, 2002.

ADDRESSES: Submit written comments concerning this notice to Patricia Pearson, Project Coordinator, Salmon-Challis National Forest, 50 Hwy 93 South, Salmon, Idaho, 83467.

FOR FURTHER INFORMATION CONTACT: Patricia Pearson at (208) 756-5148.

SUPPLEMENTARY INFORMATION:

Background

The Central Idaho Wilderness Act (CIWA) designated 79 miles of the Salmon River stretching from Wheat Creek to Long Tom Bar as “Wild” and directed that the river corridor be managed under the provision of the Wild and Scenic Rivers Act (WSRA). Three private camps are located within this Wild segment: Arctic Creek, Stub Creek and Smith Gulch. The owner and permittee for Arctic Creek is Jack Smith; for Stub Creek it is Dale Stansberry and for Smith Gulch it's Whitewater Water West (owners Mr. and Mrs. Gail Watt and Mr. And Mrs. Stanford H. Watt). The camp names will be used when referring to the permittees.

1995 Final Environmental Impact Statement and Record of Decision

In two previous court orders the Forest Service was directed to prepare an Environmental Impact Statement (EIS) for the Salmon Wild & Scenic River Management Plan Revision specifically focused on use of these three camps. The Forest completed the EIS and the first Salmon Wild and Scenic River Record of Decision (ROD) was approved on June 5, 1995. That ROD authorized use and occupancy of the three private camps through the year 2010. The decision was both appealed and litigated.

2001 Supplemental Information Report and Record of Decision

On September 19, 2000, the Court issued a decision that use of the three private camps was not consistent with the WSRA. The Court remanded the decision to the Forest Service to fashion a remedy consistent with the court opinion. In 2001 the Forest updated the 1995 EIS with a Supplemental Information Report (SIR). The SIR reviewed the existing analysis in the 1995 EIS to determine if there was any new information and if the conclusions regarding environmental effects remained the same. A second ROD was approved on September 19, 2001 selecting Alternative 4 of the 1995 FEIS. That decision authorized the use of temporary outfitter camps at three campsites and set the date of December 31, 2002 for removal of all permanent facilities at Arctic Creek, Stub Creek and Smith Gulch.

The 2001-ROD was appealed by the permittees. The Appeal Reviewing Officer affirmed the decision, but directed the Forest Service to reconsider the timeline for removal with better consideration of the individual appellants' interests, to evaluate whatever economic and operational information the appellants provided regarding their interests, and to determine if it necessitated a change in the Decision.

Timelines

The DSEIS is expected to be available for public review early in September 2002. The comment period on the DSEIS will be 45 days from the date of the Federal Register notice. It is very important that those interested in this proposal participate at that time. To be most helpful, comments on the DSEIS should be as specific as possible. The Final Supplemental EIS (FSEIS) is anticipated to be completed in November 2002, after comments are reviewed. At that time, we will release the FSEIS along with the Record of Decision (ROD). A 45-day appeal period will follow as required by the 215 regulations. Implementation will be 5 days following release of the ROD if not appealed or after a favorable appeal decision.

Submitting Comments

To assist the Forest Service in identifying and considering issues and concerns on the proposed action, comments should be as specific as possible. Reviewers may wish to refer to the Council on Environmental Quality Regulations for implementing the procedural provisions of the National Environmental Policy Act at 40 CFR 1503.3 in addressing these points.

Authority

The Salmon-Challis National Forest Supervisor has determined that preparation of a Supplemental EIS (Draft and Final) is required in order to make a new decision, under CEQ regulations implementing the National Environmental Policy Act (40 CFR 1501-1508).

Responsible Official

I am the responsible official for this Draft Supplemental Environmental Impact Statement. My address is Salmon-Challis National Forest, 50 Hwy 93 South, Salmon, Idaho 83467.

Dated: August 26, 2002.
George Matejko,
Forest Supervisor, Salmon-Challis National Forest.

[FR Doc. 02-22681 Filed 9-5-02; 8:45 am]

BILLING CODE 3410-11-P